DEPARTMENT OF TRANSPORTATION

Federal Motor Carrier Safety Administration

[Docket No. FMCSA-2025-0391]

Agency Information Collection Activities; New Information Collection: Crash Risks by Commercial Motor Vehicle (CMV) Driver Schedules

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. FMCSA needs additional data to answer important questions related to driver schedules and how these factors impact overall driver performance and fatigue. This research requires data to be collected for hours of service (HOS) duty logs, accident and incident data, and inspection violations records. The information collected will be used to examine the relative risk of crashes and inspection violations based on various factors related to the driver's work schedule and demographics.

DATES: Comments on this notice must be received on or before January 16, 2026.

ADDRESSES: You may submit comments identified by Docket Number FMCSA-2025-0391 using any of the following methods:

• Federal eRulemaking Portal: https://www.regulations.gov. Follow the online instructions for submitting comments.

• Mail: Dockets Operations; U.S. Department of Transportation, 1200 New Jersey Avenue SE, West Building, Ground Floor, Washington, DC 20590-0001.

• Hand Delivery or Courier: Dockets Operations, U.S. Department of Transportation, 1200 New Jersey Avenue SE, West Building, Ground Floor, Washington, DC, 20590-0001 between 9 a.m. and 5 p.m. ET, Monday through Friday, except Federal holidays. To be sure someone is there to help you, please call (202) 366-9317 or (202) 366-9826 before visiting Dockets Operations.

• Fax: (202) 493-2251.

To avoid duplication, please use only one of these four methods. See the “Public Participation and Request for Comments” portion of the SUPPLEMENTARY INFORMATION section for instructions on submitting comments.

FOR FURTHER INFORMATION CONTACT: Theresa Hallquist, Research Division, DOT, FMCSA, 1200 New Jersey Avenue SE, Washington, DC 20590-0001; 202-366-1064; Theresa.hallquist@dot.gov.

SUPPLEMENTARY INFORMATION:

Instructions

All submissions must include the Agency name and docket number. For detailed instructions on submitting comments, see the Public Participation heading below. Note that all comments received will be posted without change to https://www.regulations.gov, including any personal information provided. Please see the Privacy Act heading below.

Public Participation and Request for Comments

If you submit a comment, please include the docket number for this notice (FMCSA-2025-0391), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2025-0391/document, click on this notice, click “Comment,” and type your comment into the text box on the following screen.

If you submit your comments by mail or hand delivery, submit them in an unbound format, no larger than 8½ by 11 inches, suitable for copying and electronic filing.

FMCSA will consider all comments and material received during the comment period.

Privacy Act

In accordance with 5 U.S.C. 553(c), DOT solicits comments from the public to better inform its regulatory process. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

Background

This information collection supports the DOT Strategic Goal of Safety. The preamble of FMCSA's 2011 final HOS rule (76 FR 81134) stated that FMCSA is committed to an analysis of the relative crash risk by driving hour, the impact of the changes in the HOS provisions, and examination of differences in crash risk after restarts that include 2 nights and those that do not. The HOS final rule also said that FMCSA would work with the OMB on the methodologies of these new statistical data collections.

FMCSA needs additional data to answer important questions related to driver schedules and how these factors impact overall driver performance and fatigue. This research requires data to be collected for HOS duty logs, accident and incident data, and inspection violations records. HOS duty logs, as well as incident and crash data, will be obtained through an integration with the telematics system provider, and driver demographic data will be provided directly by participating carriers. FMCSA will provide access to the Motor Carrier Management Information System database, which provides records of all DOT recordable crashes and inspection violation records. All data will be collected electronically. The information collected will be used to examine the relative risk of crashes and inspection violations based on various factors related to the driver's work schedule and demographics.

Pulsar Informatics, under contract with FMCSA, is required to develop a publicly available deidentified data set to be housed in the FMCSA Data Repository. All personally identifiable information shall be removed, and other methods of protecting privacy shall be utilized as needed. This deidentified data set will be provided to FMCSA after all relevant statutes of limitations (at both State and Federal levels) pertaining to legal discoverability processes have expired.

FMCSA has determined that this collection of information is necessary for study completion. Currently, there is no comprehensive, existing data set that can be used for this project. Not collecting this data would result in an incomplete understanding of HOS-related factors that impact crash risk and the effect of alternative schedules as they relate to various aspects of HOS provisions on crash risk in CMV operations. Further, the absence of this information collection would prevent FMCSA from meeting its goal—derived from the 2015 report ¹ by the National Academies of Sciences, Engineering, and Medicine—of developing a comprehensive, structured database of crash data and driver schedules to benefit future research.

¹ The report, “Commercial Motor Vehicle Driver Fatigue, Long-Term Health, and Highway Safety,” is available at https://nap.nationalacademies.org/catalog/21921/commercial-motor-vehicle-driver-fatigue-long-term-health-and-highway-safety.

Title: Crash Risks by Commercial Motor Vehicle (CMV) Driver Schedules.

OMB Control Number: 2126-XXXX.

Type of Request: New ICR.

Respondents: Motor carriers.

Estimated Number of Respondents: 60.

Estimated Time per Response: 15 minutes (0.25 hours).

Expiration Date: N/A. This is a new ICR.

Frequency of Response: One time (IC1, IC2); quarterly (IC3).

Estimated Total Annual Burden: 45 hours.

The total annual burden is calculated as the sum of IC1, IC2, and IC3:

IC1: 15 responses per year × 0.25 hours per response = 3.75 total annual burden hours.

IC2: 15 responses per year × 0.25 hours per response = 3.75 total annual burden hours.

IC3: 150 responses per year × 0.25 hours per response = 37.5 total annual burden hours.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Nicole Michel,
Acting Associate Administrator Office of Research and Registration.

[FR Doc. 2025-19975 Filed 11-14-25; 8:45 am]

BILLING CODE 4910-EX-P